MERIT SYSTEMS PROTECTION BOARD

Agency Information Collection Activities; Proposed Collection

AGENCY: Merit Systems Protection Board.

ACTION: Notice.

SUMMARY: In compliance with the Paperwork Reduction Act (44 U.S.C. 3501 et. seq.), this notice announces that the Merit Systems Protection Board (MSPB or the Board) has forwarded to the Office of Management and Budget (OMB) for approval the following proposed information collection: e-Appeal, a new electronic application for filing an appeal with the Board, and MSPB Form 185 (7/03), a revised MSPB paper Appeal Form.

On September 4, 2002, MSPB published in the Federal Register (67 FR 56600) a notice of its intent to submit this proposed information collection to OMB for approval. The notice advised the public that MSPB had revised and expanded its approved MSPB Appeal Form (Optional Form 283, OMB Control Number 3124-0009) to create a new MSPB Appeal Forms Package. The expanded package of forms included additional questions necessitated by the enactment of new laws and changes in the Board's regulations since the MSPB Appeal Form was last revised in 1994. The notice further advised the public that MSPB planned to develop a new electronic application for filing an appeal with the Board, based on the MSPB Appeal Forms Package. Public comments suggested that, in paper form, the expanded MSPB Appeal Forms Package was too long and too complicated, particularly for pro se appellants. The comments also noted that the majority of appellants would not need many of the forms in the package. Accordingly, MSPB revised its approach to this information collection.

As now proposed, this information collection will consist of two MSPB-provided options for filing an appeal with the Board. The first option, e-Appeal, is an electronic application based on the comprehensive MSPB Appeal Forms Package. It will permit an appellant to file any type of appeal over which the Board has jurisdiction and to raise any additional claims that the Board may consider in the particular type of appeal being filed. An appellant will access the e-Appeal application via the MSPB Web site and will be guided through the process in an interview format. The questions presented to each appellant will be those applicable to the particular type of appeal being filed.

The second option is a simplified paper MSPB Appeal Form (MSPB Form 185). This form will include only questions applicable to the majority of appeals filed with the Board, i.e., appeals of an agency personnel action or a decision affecting the appellant's retirement rights or benefits. Other claims, such as claims that the appealed action or decision was the result of prohibited discrimination or that the agency committed harmful procedural error in taking it, can be raised with the appeal if the appellant provides the required information to support each claim as an attachment. (Alternatively, such claims can be raised later in the process.) The form can also be used to file an Individual Right of Action (IRA) appeal under the Whistleblower Protection Act, a Uniformed Services Employment and Reemployment Rights Act (USERRA) appeal, or a Veterans Employment Opportunities Act (VEOA) appeal if the appellant provides the additional information required for those types of appeals as an attachment.

The MSPB Form 185 will replace the current OF-283 and will be the form that an agency provides when it takes an action or makes a decision that is appealable to the Board. The majority of appellants will be able to file their appeals using the simplified MSPB Form 185 without having to provide additional information as an attachment. Use of the form is not mandatory. An appellant who chooses to file on paper may do so in any written format, including letter form, as long as the appeal provides the information required by the Board's regulations and otherwise complies with those regulations.

The two MSPB-provided options for filing an appeal with the Board are available for review on the MSPB Web site at http://www.mspb.gov/e-appeal.html.

In this regard, we are soliciting comments on the public reporting burden. The reporting burden for this collection of information is estimated to vary from 20 minutes to 4 hours per response, with an average of 60 minutes, including time for reviewing instructions, searching existing data sources, gathering and maintaining the data needed, and completing and reviewing the collection of information.

Estimated Annual Reporting Burden
5 CFR section | Annual number of respondents | Frequency per response | Total annual responses | Hours per response (average) | Total hours
1201, 1208 and 1209 | 6,300 | 1 | 6,300 | 1 | 6,300

Send comments regarding the burden estimate, or any other aspect of the information collection, including suggestions for reducing the burden, to the address shown below. Please refer to OMB Control No. 3124-0009 in any correspondence.

DATES: Comments must be received on or before September 2, 2003.

ADDRESSES: Comments concerning the paperwork burden should be addressed to the Office of Information and Regulatory Affairs, Office of Management and Budget, Attention: Desk Officer for MSPB, 725 17th Street NW., Washington, DC 20503, with a copy to Mr. Arlin Winefordner, Merit Systems Protection Board, 1615 M Street, NW., Washington, DC 20419 (or by e-mail to Arlin.Winefordner@mspb.gov).

Dated: July 25, 2003.
Matthew Shannon,
Counsel to the Clerk of the Board.

[FR Doc. 03-19454 Filed 7-30-03; 8:45 am]

BILLING CODE 7400-01-U